DEPARTMENT OF THE INTERIOR

Bureau of Reclamation

Sacramento River Water Reliability Study

AGENCY: Bureau of Reclamation, Interior.

ACTION: Notice of intent to prepare an environmental impact statement/environmental impact report (EIS/EIR) and notice of scoping meetings.

SUMMARY: Pursuant to the National Environmental Policy Act (NEPA) and the California Environmental Quality Act (CEQA), the Bureau of Reclamation (Reclamation) and the Placer County Water Agency (PCWA) propose to prepare a joint EIS/EIR for the Sacramento River Water Reliability Study (SRWRS). Reclamation is the Lead Federal Agency for NEPA and PCWA is Lead State Agency for CEQA. PCWA, Sacramento Suburban Water District (SSWD), and the cities of Roseville, and Sacramento are cost-sharing partners.

DATES: A series of public scoping meetings will be held to solicit public input on the alternatives, concerns, and issues to be addressed in the EIS/EIR as follows:

• Monday, September 15, 2003, 10 a.m. to 12 p.m., Sacramento, CA.

• Monday, September 15, 2003, 6 p.m. to 8 p.m., Sacramento, CA.

• Wednesday, September 17, 2003, 6 p.m. to 8 p.m., Willows, CA.

• Monday, September 22, 2003, 6 p.m. to 8 p.m., Yuba City, CA.

• Tuesday, September 23, 2003, 6 p.m. to 8 p.m., Stockton, CA.

• Wednesday, September 24, 2003, 6 p.m. to 8 p.m., Rocklin, CA.

Written comments on the scope of the EIS/EIR may be mailed to Reclamation or PCWA at the addresses below by Monday, October 12, 2003.

ADDRESSES: The meeting locations are:

• In Sacramento, Best Western Expo Inn, 1413 Howe Avenue, Expo Room.

• In Willows, Memorial Hall, 525 West Sycamore.

• In Yuba City, Sutter County Veterans Hall, 1425 Veterans Memorial Drive.

• In Stockton, Radisson Hotel, Delta IV Room, 2323 Grand Canal Blvd., Stockton, CA 95207.

• In Rocklin, Rocklin City Council Chambers, 3970 Rocklin Road, Rocklin, CA 95677.

Written comments on the scope of the EIS/EIR should be sent to: Ms. Mona Jefferies-Soniea, Bureau of Reclamation, 2800 Cottage Way, MP-700, Sacramento, CA 95825 or Mr. Steve Yaeger, c/o Ms. Darcy Granieri, Placer County Water Agency, P.O. Box 6570, Auburn, CA 95604-6570.

FOR FURTHER INFORMATION CONTACT: Ms. Jefferies-Soniea at the above address, at 916-978-5068, or via fax at 916-978-5094 or e-mail at mjefferies-soniea@mp.usbr.gov; or Mr. Yaeger at the above address or at 530-823-4962. Additional information is available online at http://www.usbr.gov/mp/srwrs. If special assistance is required, please call Ms. Sammie Cervantes, Reclamation, at 915-978-5104, TDD 916-978-5608, or via e-mail at scervantes@mp.usbr.gov no less than 5 working days prior to the meetings.

SUPPLEMENTARY INFORMATION: The SRWRS cost-sharing partners have identified their long-term needs for additional water supplies to meet growing water supply demands and reliability objectives in their respective service areas. The goal of the SRWRS is to develop a water supply plan that is consistent with the Water Forum Agreement (April 24, 2000) objectives of pursuing a Sacramento River diversion to meet water supply needs of the Placer-Sacramento region and promoting ecosystem preservation along the lower American River. The project location is the greater Sacramento metropolitan area, encompassing portions of southern Sutter County, northern Sacramento County, and western and southern Placer County.

Project Description

To meet the water supply needs of the cost-sharing partners, the SRWRS will identify a package of water supply infrastructure components, including new or expanded diversion(s) from the Sacramento, Feather, or American Rivers, and new or expanded water treatment and pumping facilities, storage tanks, and major transmission and distribution pipelines.

The SRWRS will include a feasibility study and an EIS/EIR for identified water supply alternatives as the basis for seeking necessary biological opinions and permits from the responsible resource agencies to allow execution of necessary agreements and construction of the recommended water supply infrastructure. Development of the SRWRS will be consistent with the following principles:

• Satisfying requirements stipulated in Public Law 106-554, the congressional authorizing legislation for this study, to complete a feasibility study for a Sacramento River diversion that is consistent with the Water Forum Agreement and includes the following components: (1) Development of a range of reasonable options, (2) an environmental evaluation, and (3) consultation with Federal and state resource management agencies regarding potential impacts and mitigation measures. Furthermore, the Congress requires the SRWRS to be developed in coordination with CALFED.

• Observing existing applicable laws, regulations, water rights, contracts and legal agreements, and Federal planning guidelines, including, but not limited to, NEPA, “Economic and Environmental Principles and Guidelines for Water and Related Land Resources Implementation Studies,” guidelines, CEQA, California Water Laws, obligations of the cost-sharing partners in their charters, and as defined in California laws.

• Minimizing overall impact on the environment to the extent feasible, being cost-effective, and complementing and enhancing the overall reliability of the Placer-Sacramento region's water supply system through increased interconnectivity and source redundancy.

The SRWRS plan will be consistent with the Water Forum Agreement in pursuing a Sacramento River diversion to accomplish the following objectives envisioned in the agreement: (1) Meeting the needs of planned future growth within the Placer-Sacramento region, (2) maintaining a reliable water supply while reducing diversions of surface water from the American River in future dry years to preserve the river ecosystem, and (3) enhancing groundwater conjunctive management to help sustain the quality and availability of groundwater for the future.

Project Alternatives

The proposed project (Elkhorn Diversion alternative) encompasses constructing a joint diversion from the Sacramento River and treatment facilities to serve the cost-sharing partners. The diversion facility would consist of expanding the existing Elkhorn Diversion owned by the Natomas Mutual Water Company (NMWC) on the east bank of the Sacramento River, upstream of the mouth of the American River at approximately river mile 73.3, or constructing a new diversion near the existing Elkhorn Diversion. Water treatment, storage, and pumping facilities would be located near the river. Also, a transmission line would connect to the west end of the existing Cooperative Transmission Pipeline/Northridge Transmission Pipeline in Antelope to serve SSWD, and an extension of that line would be built north to the service areas of Roseville and PCWA. A separate transmission line would extend south to connect to Sacramento's existing distribution system.

The five alternatives currently under consideration in the SRWRS include the No Project/No Action Alternative and four additional alternatives. For these four alternatives, the partners may share facilities to a greater or lesser degree.

• The No Project/No Action Alternative would include only currently approved and permitted surface water resources for the cost-sharing partners. To meet projected water supply demands, the cost-sharing partners would reallocate available surface water and groundwater resources between municipal and industrial (M&I) and agricultural uses (PCWA only), and among different wholesale and retail areas.

• A Sankey Diversion alternative assumes that PCWA, SSWD, and Roseville would divert water from the Sacramento River near the confluence of the Sacramento River and the Natomas Cross Canal and build separate treatment, storage, and transmission facilities to meet their needs. This diversion would be located at or near the second diversion that NMWC is developing under its CALFED-supported diversion consolidation effort. Sacramento would use groundwater to meet projected unmet demand or would divert separately from the Sacramento River at the Elkhorn site, and construct its own treatment and transmission facilities to serve its needs.

• A Feather River alternative assumes that PCWA, SSWD, and Roseville would divert water from the Feather River and build separate treatment, storage, and transmission facilities to meet their needs. Sacramento would use groundwater to meet projected unmet demand or would divert separately from the Sacramento River at the Elkhorn site, and construct its own treatment and transmission facilities to serve its needs.

• An American River Pump Station alternative assumes that PCWA would expand its American River Pump Station near Auburn and construct new treatment and transmission facilities to serve its needs. SSWD would divert from the existing San Juan Water District (SJWD) diversion facilities at Folsom Dam. Roseville would increase use of groundwater to satisfy its needs in this alternative, but not have any additional surface water diversions. Sacramento would use groundwater to meet projected unmet demand or would divert separately from the Sacramento River at the Elkhorn site, and construct its own treatment and transmission facilities to serve its needs.

• A Folsom Dam alternative assumes that PCWA and SSWD would use the existing or expanded diversion, treatment, and transmission facilities of SJWD at Folsom Dam. Roseville would increase use of groundwater to satisfy its needs in this alternative, but not have any additional surface water diversions. Sacramento would use groundwater to meet projected unmet demand or would divert separately from the Sacramento River at the Elkhorn site, and construct its own treatment and transmission facilities to serve its needs.

Changes in Entitlements

Implementing a Sacramento River diversion for the cost-sharing partners would require a change in the point of diversion for PCWA's Central Valley Project contract and for Sacramento's Sacramento River water right permit, and an exchange agreement between PCWA and Reclamation for Roseville and SSWD diversions under their contract entitlements from PCWA's Middle Fork Project.

Water Delivery Quantities

The additional water supplies considered in the SRWRS for each cost-sharing partner include: (1) Additional water supply of up to 35,000 acre-feet for PCWA's M&I demand with a treatment capacity of 65 million gallons per day (mgd), (2) additional water supply of up to 29,000 acre-feet in Water Forum average, drier, and driest years for SSWD's M&I demand and groundwater stabilization program with a treatment capacity of 15 mgd, (3) additional water supply of up to 7,100 acre-feet for Roseville's M&I demand with a treatment capacity of 10 mgd, and (4) additional water supply of up to 58,000 acre-feet (see note below) with a water treatment capacity of 165 mgd for Sacramento's M&I demand.

Note on Sacramento's additional diversion: The Water Forum Agreement does not establish a volumetric limitation for Sacramento's total diversion, and the estimated additional water supply to meet its projected demand is about 58,000 acre-feet, based on the difference between the demand and the projected average diversion for Sacramento that could be realized in 2020 level of development using then-existing diversion facilities on the American and Sacramento rivers. (The 2030 level of statewide demand projection is currently under development by California Department of Water Resources.) However, Sacramento could divert up to 81,800 acre-feet under its water rights on the Sacramento River at the Elkhorn site by reducing the diversion under its Sacramento River water rights at its existing Sacramento River Water Treatment Plant downstream of the confluence with the American River.

Indian Trust Assets

There are Indian Trust Assets located in Placer County, held in trust by the United States for the United Auburn Indian Community of the Auburn Rancheria. Direct association between these assets and the proposed action are unknown at this time. There are no assets located in the greater Sacramento metropolitan area, southern Sutter County, or northern Sacramento County.

Written comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations or businesses, and from individuals identifying themselves as representatives or officials of organizations or businesses, will be made available for public disclosure in their entirety.

Dated: July 2, 2003.
Robert Eckart,
Chief, Environmental Compliance Branch, Mid-Pacific Region.

[FR Doc. 03-19307 Filed 7-29-03; 8:45 am]

BILLING CODE 4310-MN-P